DEPARTMENT OF THE INTERIOR

National Park Service

[NPS-WASO-NAGPRA-NPS0037476; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside (UCR) has completed an inventory of human remains and associated funerary objects and has determined that there is a cultural affiliation between the human remains and associated funerary objects and Indian Tribes or Native Hawaiian organizations in this notice. The human remains and associated funerary objects were removed from Riverside, CA.

DATES: Repatriation of the human remains and associated funerary objects in this notice may occur on or after March 29, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside. The National Park Service is not responsible for the determinations in this notice. Additional information on the determinations in this notice, including the results of consultation, can be found in the inventory or related records held by the University of California, Riverside.

Description

Human remains representing, at minimum, two individuals were removed from Riverside County, CA. In 1987, the University of California, Riverside Archaeological Research Unit removed the remains of at least two Native American individuals from the Lakeview (Dead Dog) sites in the Lakeview Mountains, west of the city of San Jacinto during an archeological excavation contracted by Patricia Olsen, president of Matrix Development. During the mitigation project, 11 archeological sites were identified, but only three (RIV-402, RIV-403, and RIV-575) were determined to require further mitigation. The sites are in the nearby vicinity of the well-known “Ramona Maze”, a large petroglyph depicting a cruciform centered maze enclosed in a rectangular border (RIV-1138). The general area contains dozens of millingstone stations and rock-cairn structures and is well-known to both the Cahuilla and Luiseno communities as part of their cultural landscapes. The archeological site RIV-402 contains a large petroglyph as well, described by archeologists as “pit and groove” style. The “Dead Dog Site” or RIV-575 was noted to have deep midden deposits and was likely a habitation site. At this site three separate burials were disturbed during excavation, including one cremation feature with fragmented remains, one in-tact burial, and one isolated human phalanx from a juvenile individual. According to a written account by Daniel McCarthy, he notified the coroner who offered to send someone out to review, but McCarthy declined, stating that it was more likely archeological in nature. He then reportedly went to a nearby tribal office the next day around 1:15 p.m. but did not find anyone in the office. He then reportedly called the office again and wrote a letter but made no further attempts to get in contact. According to UCR catalog records, in July of 1990, 19 lots of human bones and associated funerary objects were reburied in La Quinta by a Tribe, however, the rest of the objects in the collection remained at UCR. It seems likely that the UCR archeologists returned only what they identified to be human bone and associated funerary objects, rather than allowing Tribes to review the collections in their entirety. In 2023, during Tribal consultation, an osteological consultant identified additional fragments of cremated human remains in the collections. Tribal representatives also identified associated funerary objects. The 20 associated funerary objects are three lots of animal bone, two lots of ceramic, two lots of glass, three lots of lithic flakes and objects, one lot of modified animal bone, three lots of floral material and charcoal, two lots of geological materials, one lot of clay, one lot of metal, one lot of mineralogical objects, and one lot of plastic.

Human remains representing, at minimum, one individual were removed from Riverside County, CA. In 1938, the human remains of one Native American adult individual were removed from the private property of the Pedrorena de Wolfskill family by Harley S. Garbani, an amateur fossil hunter and collector. The property that the individual was removed from is now owned by the Rancho Del Sol Golf Club in Moreno Valley. Documentation of the excavation and circumstances surrounding Garbani's acquisition of the human remains are extremely limited and professional publications provide little to no additional narrative. In 1981, Dr. R.E. Taylor, director of the University of California, Riverside Radiocarbon Laboratory, obtained a sample of the individual for radiocarbon dating. The residual sample material was subsequently stored by Dr. Taylor at an off-campus storage facility and never reported to the UCR NAGPRA Program Staff. In February of 2022, the sample from the individual was discovered by NAGPRA Program Staff during a collections inventory. Radiocarbon dates indicate an age of 3055 ± 140 BP. The one associated funerary object is one lot of soil samples.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, oral tradition, expert tribal opinion.

Determinations

Pursuant to NAGPRA and its implementing regulations, and after consultation with the appropriate Indian Tribes and Native Hawaiian organizations, the University of California, Riverside has determined that:

• The human remains described in this notice represent the physical remains of three individuals of Native American ancestry.

• The 21 objects described in this notice are reasonably believed to have been placed with or near individual human remains at the time of death or later as part of the death rite or ceremony.

• There is a relationship of shared group identity that can be reasonably traced between the human remains and associated funerary objects described in this notice and the Agua Caliente Band of Cahuilla Indians of the Agua Caliente Indian Reservation, California; Augustine Band of Cahuilla Indians, California; Cabazon Band of Cahuilla Indians (previously listed as Cabazon Band of Mission Indians, California); Cahuilla Band of Indians; Los Coyotes Band of Cahuilla and Cupeno Indians, California; Ramona Band of Cahuilla, California; Santa Rosa Band of Cahuilla Indians, California; Soboba Band of Luiseno Indians, California; and the Torrez Martinez Desert Cahuilla Indians, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 29, 2024. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04090 Filed 2-27-24; 8:45 am]

BILLING CODE 4312-52-P